DEPARTMENT OF THE INTERIOR

National Park Service

60-Day Notice of Intention To Request Clearance of Information Collection—Opportunity for Public Comment

AGENCY: Department of the Interior, National Park Service.

ACTION: Notice and request for comment.

SUMMARY: Under the provisions of the Paperwork Reduction Act of 1955 (Pub. L. 104-13, 44 U.S.C. 3507) and 5 CFR part 1320, Reporting and Recordkeeping Requirements, the National Park Service (NPS) invites public comments on a revision of a currently approved information collection (OMB# 1024-0232).

DATES: Public Comments on the proposed ICR will be accepted on or before December 11, 2006.

ADDRESSES: Send comments to Diane Miller, National Coordinator, National Underground Railroad Network to Freedom Program, National Park Service, Midwest Regional Office, 601 Riverfront Drive, Omaha, Nebraska, 68102. All responses to this notice will be summarized and included in the requests for Office of Management and Budget (OMB) approval. All comments will become a matter of public record. Copies of the proposed ICR can be obtained from Diane Miller, National Coordinator, National Underground Railroad Network to Freedom Program, National Park Service, Midwest Regional Office, 601 Riverfront Drive, Omaha, Nebraska 68102.

FOR FURTHER INFORMATION CONTACT: Diane Miller, 402-661-1588 or James Hill 402-661-1590.

SUPPLEMENTARY INFORMATION: Title: NPS National Underground Railroad Network to Freedom Application.

Bureau Form Number: n/a.

OMB Number: 1024-0232.

Expiration Date: 12/31/2006.

Type of request: Revision of a currently approved information collection.

Description of need: The NPS has identified guidelines and criteria for associated elements to qualify for the Network. The application form documents spies, programs, and facilities and demonstrates that they meet the criteria established for inclusion. The documentation will be incorporated into a database that will be available to the general public for information purposes. Public Law 105-2103 authorizes the NPS to develop and administer the National Underground Railroad Network for Freedom Application, a nationwide collection of governmental and non-governmental sites, facilities, and programs associated with the historic Underground Railroad movement. The NPS has developed the application process through which associated elements can be included in the Network. The information collected will (a) verify associations to the Underground Railroad, (b) measure minimum levels of standards for inclusion in the Network, and (c) identify general needs for technical assistance. The NPS specifically requests comments on: (1) The need for information including whether the information has practical utility; (2) the accuracy of the reporting burden hours estimates, (3) was to enhance the quality, and clarity of the information to be collected; and (40 ways to minimize the burden of information collection on respondents, including the use of automated collection techniques or other forms of information technology.

Automated data collection: Respondents must verify associations and characteristics through descriptive texts that are the result of historical research. Evaluations are based on subjective analysis of the information provided, which often includes copies of rare documents and photographs. Much of the information is submitted in electronic format, but at the present time, there is no automated way to gather all of the required information.

Description of respondents: The affected public are State, tribal, and local governments, Federal agencies, businesses, non-profit organizations, and individuals throughout the United States. Nominations to the Network are voluntary.

Estimated average number of respondents: 70.

Estimated average number of responses: 70.

Estimated average burden hours per response: 15.

Estimated frequency of response: Once per respondent.

Estimated annual reporting burden: 1,050 hours.

Dated: September 17, 2006.
Leonard E. Stowe,
NPS, Information Collection Clearance Officer.

[FR Doc. 06-8629 Filed 10-11-06; 8:45 am]

BILLING CODE 4312-52-M